RAILROAD RETIREMENT BOARD

Privacy Act of 1974; Matching Program; (RRB and State Agencies)

AGENCY: U.S. Railroad Retirement Board (RRB).

ACTION: Notice of a renewed matching program.

SUMMARY: As required by the Privacy Act of 1974, as amended, the RRB is issuing public notice of its renewal of an ongoing computer-matching program with State agencies regarding individuals who received benefits under the Railroad Unemployment Insurance Act.

DATES: Public comments are welcome until August 7, 2023. We will file a report of this computer-matching program with the Committee on Homeland Security and Governmental Affairs of the Senate; the Committee on Oversight and Government Reform of the House of Representatives; and the Office of Information and Regulatory Affairs, Office of Management and Budget (OMB). The matching program will continue for 18 months after the effective date and may be extended for an additional 12 months, if the conditions specified in 5 U.S.C. 552a(o)(2)(D) have been met.

ADDRESSES: Interested parties may comment on this publication by writing to Stephanie Hillyard, Secretary to the Board, Railroad Retirement Board, 844 North Rush Street, Chicago, Illinois 60611-1275.

FOR FURTHER INFORMATION CONTACT: Mr. Chad Peek, Chief Privacy Officer, Railroad Retirement Board, 844 North Rush Street, Chicago, Illinois 60611-1275, telephone 312-751-3389 or email at chad.peek@rrb.gov.

SUPPLEMENTARY INFORMATION:

A. General

The Computer Matching and Privacy Protection Act of 1988, (Pub. L. 100-503), amended by the Privacy Act of 1974, (5 U.S.C. 552a) as amended, requires a Federal agency participating in a computer matching program to publish a notice in the Federal Register for all matching programs.

The Privacy Act, as amended, regulates the use of computer matching by Federal agencies when records contained in a Privacy Act System of Records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments. The last notice for this matching program was published in the Federal Register on January 20, 2015 (80 FR 2757).

B. RRB Computer Matches Subject to the Privacy Act

We have taken appropriate action to ensure that all of our computer matching programs comply with the requirements of the Privacy Act, as amended.

Participating Agencies

Railroad Retirement Board (RRB) and agencies of all 50 States and the District of Columbia which provide unemployment or sickness benefits.

Authority for Conducting The Matching Program

5 U.S.C. 552a(o); 42 U.S.C. 503(c)(1); 44 U.S.C. 3551-59; 45 U.S.C. 362(f); 20 CFR 200.8(g); 20 CFR 603.6(b)(2).

Purpose(s)

The RRB will conduct computer matching activities to determine if an individual who received benefits under the Railroad Unemployment Insurance Act also received during the designated time period:

1. Any unemployment or sickness insurance benefits from a State agency, or

2. Any employment or self-employment earnings reported to the State. If there is a match, the State will report the amount of unemployment or sickness insurance benefits paid or the employment or self-employment earnings reported to the RRB.

1. For individuals who received both benefits under the Railroad Unemployment Insurance Act and either unemployment or sickness insurance benefits from the State: Depending on arrangements made between the two jurisdictions, and, in the case of State sickness benefits, on the applicable State law, either the RRB or the State agency will attempt to recover the amount of the duplicate payments.

2. For individuals for whom earnings information was reported to the State: the State will notify the RRB and furnish a breakdown of the wages, as well as the name and address of each employer who reported earnings for the individual. The RRB will then contact each employer who reported earnings for the individual for the given period. Only if the employment is verified will the RRB take action to recover the overpayment. If benefits were paid under the Railroad Unemployment Insurance Act, recovery is limited to payments made for those days on which the individual was gainfully employed.

Categories of Individuals

All recipients of benefits under the Railroad Unemployment Insurance Act during the period covered by the computer matching program who reside in the States the RRB has negotiated a computer matching program agreement with.

Categories of Records

The information received through the computer matching programs may consist of either: (1) a report of unemployment or sickness payments made by the State for the same period that benefits were paid by the RRB, or (2) a report of wages paid to an individual, and the names and addresses of employers who reported those wages to the State for the same period that benefits were paid by the RRB.

System(s) of Records

Records furnished by the States are covered under Privacy Act system of records RRB-21, Railroad Unemployment and Sickness Insurance Benefit System, May 15, 2015 (80 FR 28016).

Dated: July 3, 2023.
By authority of the Board.
Stephanie Hillyard,
Secretary to the Board.

[FR Doc. 2023-14352 Filed 7-6-23; 8:45 am]

BILLING CODE 7905-01-P